ENVIRONMENTAL PROTECTION AGENCY

[FRL -7985-4]

Science Advisory Board Staff Office Clean Air Scientific Advisory Committee (CASAC) Notification of Public Advisory Committee Meeting (Teleconference)

AGENCY: Environmental Protection Agency (EPA).

ACTION: Notice.

SUMMARY: The Environmental Protection Agency (EPA or Agency) Science Advisory Board (SAB) Staff Office announces a public teleconference of the Clean Air Scientific Advisory Committee (CASAC or Committee) to review and approve the advisory report of the CASAC Ambient Air Monitoring and Methods (AAMM) Subcommittee (Subcommittee) on its recent peer review of the Federal Reference Method (FRM) for thoracic coarse particulate matter (PM10-2.5).

DATES: The teleconference meeting will be held on November 3, 2005, from 1 to 4 p.m. (eastern time).

FOR FURTHER INFORMATION CONTACT: Any member of the public who wishes to obtain the teleconference call-in numbers and access codes; would like to submit written or brief oral comments; or wants further information concerning this teleconference meeting, should contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the CASAC or the EPA SAB can be found on the EPA Web site at: http://www.epa.gov/sab.

SUPPLEMENTARY INFORMATION:

CASAC and the AAMM Subcommittee

The CASAC, which comprises seven members appointed by the EPA Administrator, was established under section 109(d)(2) of the Clean Air Act (CAA or Act) (42 U.S.C. 7409) as an independent scientific advisory committee, in part to provide advice, information and recommendations on the scientific and technical aspects of issues related to air quality criteria and national ambient air quality standards (NAAQS) under sections 108 and 109 of the Act. The CASAC, which is administratively located under the SAB Staff Office, is a Federal advisory committee chartered under the Federal Advisory Committee Act (FACA), as amended, 5 U.S.C., App.

The SAB Staff Office established the CASAC AAMM Subcommittee in early 2004 as a standing subcommittee to provide the EPA Administrator, through the CASAC, with advice and recommendations, as necessary, on topical areas related to ambient air monitoring, methods and networks. The Committee and the Subcommittee comply with the provisions of FACA and all appropriate SAB Staff Office procedural policies.

Background

In response to a request from EPA's Office of Air and Radiation (OAR), Office of Air Quality Planning and Standards (OAQPS), the CASAC AAMM Subcommittee conducted a peer review on the FRM for PM10-2.5 and a consultation on various particulate matter (PM) monitoring-related issues at a public meeting held September 21-22, 2005 in Durham, NC. Subsequent to that meeting, the Subcommittee drafted an advisory report for the CASAC's consideration. Detailed summary information on EPA's proposed FRM for thoracic coarse particulate matter is contained in a previous Federal Register notice (70 FR 51353, August 30, 2005).

Availability of Meeting Materials

The CASAC AAMM Subcommittee's draft advisory report and the final agenda for this teleconference meeting will be posted on the SAB Web site at: http://www.epa.gov/sab/panels/casac_aamm_subcom.html and http://www.epa.gov/sab (under “Meeting Agendas”), respectively, in advance of the CASAC teleconference. Written meeting materials and background information from the Subcommittee's September 21-22, 2005 meeting are posted on the “CASAC File Area” page of EPA's Ambient Monitoring Technology Information Center (AMTIC) Web site at: http://www.epa.gov/ttn/amtic/casacinf.html.

Questions concerning EPA's ambient air monitoring efforts should be directed to Mr. Tim Hanley, OAQPS, at phone: (919) 541-4417; or e-mail: hanley.tim@epa.gov. Questions concerning the Agency's FRM development efforts and PM10-2.5 measurement methods evaluation should be directed to Dr. Robert Vanderpool of EPA's Office of Research and Development (ORD), National Exposure Research Laboratory (NERL), at phone: (919) 541-7877; or e-mail: vanderpool.robert@epa.gov.

Procedures for Providing Public Comment

The SAB Staff Office accepts written public comments of any length, and will accommodate oral public comments whenever possible. The SAB Staff Office expects that the public will not repeat previously-submitted oral or written statements. Oral Comments: Requests to provide oral comments must be in writing (e-mail, fax or mail) and received by Mr. Butterfield no later than October 27, 2005 to reserve time on the November 3, 2005 meeting agenda. Opportunities for oral comments will be limited to five minutes per speaker. Written Comments: Written comments should be received in the SAB Staff Office by October 28, 2005 so that the comments may be made available to the members of the members of the CASAC for their consideration. Comments should be supplied to Mr. Butterfield at the contact information provided above, in the following formats: one hard copy (original signature optional), or one electronic copy via e-mail (acceptable file format: Adobe Acrobat PDF, WordPerfect, Word, or Rich Text files (in IBM-PC/Windows 98/2000/XP format)).

Accessibility

For information on access or services for individuals with disabilities, please contact Mr. Butterfield at the phone number or e-mail address noted above, preferably at least ten days prior to the meeting, to give EPA as much time as possible to process your request.

Dated: October 11, 2005.
Anthony F. Maciorowski,
Associate Director for Science, EPA Science Advisory Board Staff Office.

[FR Doc. 05-20826 Filed 10-17-05; 8:45 am]

BILLING CODE 6560-50-P